DEPARTMENT OF ENERGY

Federal Energy Regulatory Commission

[Project No. 14276-002; Docket No. AD13-9-000]

FFP Project 92, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Original Major License.

b. Project No.: 14276-002.

c. Date filed: April 16, 2015.

d. Applicant: FFP Project 92, LLC.

e. Name of Project: Kentucky River Lock and Dam No. 11 Hydroelectric Project.

f. Location: The proposed project would be located on the Kentucky River in Estill and Madison Counties, Kentucky, at the existing Kentucky River Lock and Dam No. 11 which is owned by the Commonwealth of Kentucky and operated by the Kentucky River Authority. The project would not affect federal land.

g. Filed Pursuant to: 18 CFR part 5 of the Commission's regulations and Hydropower Regulatory Efficiency Act of 2013.

h. Applicant Contact: Kellie Doherty, Rye Development, LLC, 745 Atlantic Avenue, 8th floor, Boston, MA 02111; Telephone (781) 856-2030; kellie@ryedevelopment.com.

i. FERC Contact: Sarah Salazar, Telephone (202) 502-6863, and email sarah.salazar@ferc.gov.

j. Deadline for filing motions to intervene and protests, comments, recommendations, preliminary terms and conditions, and preliminary prescriptions: 60 days from the issuance date of this notice; reply comments are due 75 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14276-002.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The proposed project would be located at the Commonwealth of Kentucky's existing Kentucky River Lock and Dam No. 11, which was originally constructed from 1904 to 1906 by the U.S. Corps of Engineers for the purpose of transportation. There is a single lock chamber with a total length of 148 feet and width of 52 feet on the south end of the dam. However, a concrete bulkhead and miter gates were installed in front of the lock structure and it is no longer being used for navigational purposes. The Kentucky River Authority currently operates the dam to maintain the upriver channel depth and an impoundment to withdraw water for municipal drinking water purposes. The impoundment also serves the purposes of providing opportunities for recreation and habitat for fish and wildlife.

The proposed project would be operated in a run-of-river mode. The proposed project would include: (1) The existing 579-acre impoundment, with a normal pool elevation of 585.60 feet North American Vertical Datum of 1988; (2) the existing 208-foot-long, 35-foot-high fixed crest dam; (3) a new 275-foot-long, 75-foot-wide reinforced concrete intake channel equipped with trashracks with 3-inch bar spacing; (4) a new 140-foot-long, 64.5-foot-wide powerhouse that includes a 30-foot-long, 47-foot- high, 64.5-foot-wide intake and headgate structure built within the existing lock structure; (5) two new horizontal Pit Kaplan turbine generator units each rated at 2.5 megawatts (MW); (6) a new 190-foot-long, 78-foot-wide tailrace; (7) a new 40-foot-long, 40-foot-wide substation; (8) a new 212-foot, 4.16 kilovolt (kV) underground transmission cable from the generators to the new substation and a new approximately 4.5-mile-long, 69- kV overhead transmission line extending from the new substation at the powerhouse to an existing substation located near Waco, Kentucky; and (9) appurtenant facilities. The proposed project would generate about 18,500 megawatt-hours annually, which would be sold to a local utility.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant named in this public notice.

Dated: September 25, 2015.
Nathaniel J. Davis, Sr.,
Deputy Secretary.

[FR Doc. 2015-25011 Filed 10-1-15; 8:45 am]

BILLING CODE 6717-01-P